DEPARTMENT OF HEALTH AND HUMAN SERVICES

National Institutes of Health

Center for Scientific Review; Amended Notice of Meeting

Notice is hereby given of a change in the meeting of the Center for Scientific Review Special Emphasis Panel, May 6, 2009, 9 a.m. to May 7, 2009, 10 p.m., National Institutes of Health, 6701 Rockledge Drive, Bethesda, MD 20892 which was published in the Federal Register on April 7, 2009, 74 FR 15739-15740.

The meeting will be held May 28, 2009 to May 29, 2009. The meeting time and location remain the same. The meeting is closed to the public.

Dated: April 10, 2009.
Anna Snouffer,
Deputy Director, Office of Federal Advisory Committee Policy.

[FR Doc. E9-8896 Filed 4-20-09; 8:45 am]

BILLING CODE 4140-01-M